DEPARTMENT OF JUSTICE

Parole Commission

Public Announcement Pursuant to the Government in the Sunshine Act (Pub. L. 94-409) (5 U.S.C. 552b)

Date and Time: 10:30 a.m., Thursday, June 2, 2005.

Place: U.S. Parole Commission, 5550 Friendship Boulevard, 4th Floor, Chevy Chase, Maryland 20815.

Status: Closed—Meeting.

Matters To Be Considered: The following matter will be considered during the closed portion of the Commission's Business Meeting:

Case deliberations or review of two original jurisdiction cases conducted pursuant to 28 CFR Sec. 2.17 and 28 CFR Sec. 2.27.

Agency Contact: Thomas W. Hutchison, Chief of Staff, United States Parole Commission, (301) 492-5990.

Dated: May 26, 2005.
Rockne Chickinell,
General Counsel.

[FR Doc. 05-10943 Filed 5-27-05; 10:40 am]

BILLING CODE 4410-31-M